DEPARTMENT OF COMMERCE

National Oceanic and Atmospheric Administration

50 CFR Part 679

[Docket No. 021122286-3036-02; I.D. 110602B]

Fisheries of the Exclusive Economic Zone Off Alaska; Gulf of Alaska; Final 2003 Harvest Specifications for Groundfish

AGENCY: National Marine Fisheries Service (NMFS), National Oceanic and Atmospheric Administration (NOAA), Commerce.

ACTION: Final 2003 harvest specifications for groundfish and associated management measures; closures.

SUMMARY: NMFS announces final 2003 harvest specifications for groundfish, reserves and apportionments thereof, Pacific halibut prohibited species catch (PSC) limits, and associated management measures for the groundfish fishery of the Gulf of Alaska (GOA). This action is necessary to establish harvest limits and associated management measures for groundfish during the 2003 fishing year and to accomplish the goals and objectives of the Fishery Management Plan for Groundfish of the GOA (FMP). The intended effect of this action is to conserve and manage the groundfish resources in the GOA in accordance with the Magnuson-Stevens Fishery Conservation and Management Act (Magnuson-Stevens Act).

DATES: The final 2003 harvest specifications and associated management measures are effective at 1200 hrs, Alaska local time (A.l.t.), February 25, 2003, through 2400 hrs, A.l.t, December 31, 2003.

ADDRESSES: Copies of the Final Environmental Assessment (EA) and Final Regulatory Flexibility Analysis (FRFA) prepared for this action and the Final 2002 Stock Assessment and Fishery Evaluation (SAFE) report, dated November 2002, are available from the North Pacific Fishery Management Council, West 4th Avenue, Suite 306, Anchorage, AK, 99510 (907-271-2809) or from its homepage at http://www.fakr.noaa.gov/npfmc.

FOR FURTHER INFORMATION CONTACT: Tom Pearson, Sustainable Fisheries Division, Alaska Region, 907-481-1780 or e-mail at tom.pearson@noaa.gov.

SUPPLEMENTARY INFORMATION:

Background for the 2003 Final Harvest Specifications

NMFS manages the groundfish fisheries in the exclusive economic zone (EEZ) of the GOA under the FMP. The Council prepared the FMP under the authority of the Magnuson-Stevens Act, 16 U.S.C. 1801, et seq. Regulations governing U.S. fisheries and implementing the FMP appear at 50 CFR parts 600 and 679.

The FMP and its implementing regulations require NMFS, after consultation with the Council, to specify annually the total allowable catch (TAC) for each target species and for the “other species” category, the sum of which must be within the optimum yield (OY) range of 116,000 to 800,000 metric tons (mt) (§ 679.20(a)(1)(ii)). Regulations at § 679.20(c)(3)(i) further require NMFS to publish annually the final annual TACs, halibut PSC amounts, and seasonal allowances of pollock, Pacific cod, and inshore/offshore Pacific cod. The final specifications set forth in Tables 1 to 11 of this document satisfy these requirements. For 2003, the sum of TAC amounts is 236,440 mt.

The proposed GOA groundfish specifications and Pacific halibut PSC allowances for the groundfish fishery of the GOA were published in the Federal Register on December 12, 2002 (67 FR 76344). Comments were invited and accepted through January 13, 2003. NMFS received one comment on the proposed specifications. This comment is summarized and responded to in the “Response to Comments” section. Public consultation with the Council occurred during the December 2002 Council meeting in Anchorage, AK. After considering public comments received, as well as biological and economic data that were available at the Council's December meeting, NMFS is implementing the final 2003 groundfish specifications as recommended by the Council.

Regulations at § 679.20(c)(2)(i) establish interim amounts of each proposed TAC and apportionment thereof, and proposed PSC allowances established under § 679.21 that become available at 0001 hours, A.l.t., January 1, and remain available until superseded by the final specifications. NMFS published the interim 2003 groundfish harvest specifications in the Federal Register on December 26, 2002 (67 FR 78733). The final 2003 groundfish harvest specifications, apportionments, and halibut PSC allowances contained in this action supersede the interim 2003 groundfish harvest specifications.

Implementation of Steller Sea Lion Conservation Measures

In accordance with a biological opinion issued by NMFS on October 19, 2001, NMFS implemented a final rule for Steller sea lion protection (68 FR 204, January 2, 2003) that contains measures that were deemed necessary to avoid the likelihood that the pollock, Pacific cod, and Atka mackerel fisheries off Alaska will jeopardize the continued existence of the western population of Steller sea lions or adversely modify its critical habitat. The final rule implements three types of management measures for the pollock and Pacific cod fisheries of the GOA: (1) measures to temporally disperse fishing effort, (2) measures to spatially disperse fishing effort, and (3) measures to provide sufficient protection from competition with pollock fisheries for prey in waters immediately adjacent to rookeries and important haulouts.

On December 18, 2002, the United States District Court for the Western District of Washington entered an Order remanding the October 19, 2001, biological opinion prepared for the groundfish fisheries. Greenpeace, et al. v. National Marine Fisheries Service, No. C98-492Z (W.D. Wash.). The Court held that the biological opinion's findings of no jeopardy to the continued existence of endangered Steller sea lions and no adverse modification of their critical habitat were arbitrary and capricious. NMFS reached an agreement with the Plaintiffs that the 2003 groundfish fisheries will commence pursuant to the Steller sea lion protection measures examined in the biological opinion pending completion of the remand. The Court issued an order on December 30, 2002, that supported the agreement and extended the effective date of the 2001 Steller sea lion protection measures biological opinion until June 30, 2003.

Acceptable Biological Catch (ABC) and TAC Specifications

The final ABC levels are based on the best available scientific information, including projected biomass trends, information on assumed distribution of stock biomass, and revised methods used to calculate stock biomass. The FMP specifies the formulas, or tiers, to be used in computing ABCs and overfishing levels (OFLs). The formulas applicable to a particular stock or stock complex are determined by the level of reliable information available to fisheries scientists. This information is categorized into a successive series of six tiers.

The Council, its Advisory Panel (AP), and its Scientific and Statistical Committee (SSC) reviewed the most current biological information about the condition of GOA groundfish stocks at their meetings in December 2002. This information was compiled by the Council's GOA Plan Team and was presented in the final 2002 SAFE report for the GOA groundfish fisheries, dated November 2002.

The SAFE report contains a review of the latest scientific analyses and estimates of each species' biomass and other biological parameters, as well as summaries of the available information on the GOA ecosystem and the economic condition of groundfish fisheries off Alaska. From these data and analyses, the Plan Team estimates an ABC for each species or species category.

The SSC, AP, and Council adopted the Plan Team's ABC recommendations for all groundfish species categories except sablefish. For sablefish, the SSC increased the ABC from the Plan Team's recommendation based on the projected 5-year average of catches under the Council's F40% policy. The AP endorsed the ABC for sablefish recommended by the SSC, and the Council adopted the ABC. The final ABCs, as adopted by the Council are listed in Table 1.

As in 2002, the SSC's, AP's and Council's recommendation for the method of apportioning the sablefish ABC among management areas includes commercial fishery as well as survey data. NMFS stock assessment scientists believe that the use of unbiased commercial fishery data reflecting catch-per-unit effort provides a desirable input for stock distribution assessments. The use of commercial fishery data needs to be evaluated annually to assure that unbiased information is included in stock distribution models. The Council's recommendation for sablefish area apportionments also takes into account the prohibition on the use of trawl gear in the Southeast Outside (SEO) District of the Eastern GOA and makes available 5 percent of the combined Eastern GOA ABCs to trawl gear for use as incidental catch in other directed groundfish fisheries in the West Yakutat District.

The AP and Council recommended that the ABC for Pacific cod in the GOA be apportioned among regulatory areas based on the three most recent NMFS summer trawl surveys. As in previous years, the Plan Team, SSC, and Council recommended that total removals of Pacific cod from the GOA not exceed ABC recommendations. Accordingly, the AP and Council recommended that the TACs be adjusted downward from the ABCs by amounts equal to the 2003 guideline harvest levels (GHL) established for Pacific cod by the State of Alaska (State) for seasons which occur in State waters in the GOA. The effect of the State's GHL on the Pacific cod TAC is discussed in greater detail below.

The final TAC recommendations were based on the ABCs as adjusted for other biological and socioeconomic considerations, including maintaining the total TAC with the required OY range of 116,000 to 800,000 mt. The Council adopted the AP's TAC recommendations. None of the Council's recommended TACs for 2003 exceeds the final ABC for any species category. NMFS finds that the recommended ABCs and TACs are consistent with the biological condition of groundfish stocks as described in the 2002 SAFE report and approved by the Council.

Table 1 lists the final annual 2003 OFL, ABC, TAC, and area apportionments of groundfish in the GOA. The sum of 2003 ABCs for all assessed groundfish is 416,600 mt, which is higher than the 2002 ABC total of 394,780 mt. The apportionment of TAC amounts among gear types, processing sectors, and seasons is discussed below.

Specification and Apportionment of TAC Amounts

The Council adopted the AP's proposals for the 2003 GOA TAC amounts. The Council recommended TACs equal to ABCs for pollock, deep-water flatfish, rex sole, sablefish, shortraker and rougheye rockfish, northern rockfish, Pacific Ocean perch, pelagic shelf rockfish, thornyhead rockfish, demersal shelf rockfish, and Atka mackerel. The Council-recommended TACs are less than the ABC for Pacific cod, flathead sole, shallow-water flatfish, arrowtooth flounder, and other rockfish.

The apportionment of annual pollock TAC among three statistical areas of the Western and Central Regulatory Areas of the GOA reflects the seasonal biomass distribution and is discussed in greater detail below.

The annual pollock TAC in the Western and Central Regulatory Areas of the GOA is apportioned into four equal seasonal apportionments. The annual pollock TAC in the combined Western/Central/West Yakutat (W/C/WYK) area of the GOA is 47,890 mt. The annual TAC in the Western and Central Regulatory Areas of the GOA is apportioned among Statistical Areas 610, 620, and 630 as well as equally among each of the following four seasons: the A season (January 20 through February 25), the B season (March 10 through May 31), the C season (August 25 through September 15), and the D season (October 1 through November 1)(§ 679.23(d)(2)(i) through (iv) and § 679.20(a)(5)(ii)(B)).

The 2003 Pacific cod TAC is affected by the State's developing fishery for Pacific cod in State waters in the Central and Western GOA, as well as Prince William Sound (PWS). The SSC, AP, and Council recommended that the sum of all State and Federal water Pacific cod removals should not exceed the ABC. Accordingly, the Council recommended that Pacific cod TAC be reduced from ABC levels to account for State GHLs in each regulatory area of the GOA. Respective TACs, therefore, are reduced from ABCs as follows: (1) Eastern GOA 800 mt, (2) Central GOA 6,310 mt, and (3) Western GOA 5,150 mt. These amounts reflect the sum of State's 2003 GHLs in these areas which are 25 percent, 21.75 percent, and 25 percent of the Eastern, Central, and Western GOA ABCs, respectively. These percentages are unchanged from 2002.

NMFS is also establishing seasonal apportionments of the annual Pacific cod TAC in the Western and Central Regulatory Areas. Sixty percent of the annual TAC is apportioned to the A season for hook-and-line, pot and jig gear from January 1 through June 10, and for trawl gear from January 20 through June 10. Forty percent of the annual TAC is apportioned to the B season for hook-and-line, pot and jig gear from September 1 through December 31, and for trawl gear from September 1 through November 1 (§ 679.23(d)(3) and § 679.20(a)(11)). These seasonal apportionments of the annual Pacific cod TAC are discussed in greater detail below.

The FMP specifies that the amount for the “other species” category is calculated as 5 percent of the combined TAC amounts for target species. The 2003 GOA-wide “other species” TAC is 11,260 mt, which is 5 percent of the sum of the combined TAC amounts (225,180 mt) for the other groundfish species for which TAC is specified. The sum of the TACs for all GOA groundfish is 236,440 mt, which is within the OY range specified by the FMP. The sum of the 2003 TACs is lower than the 2002 TAC sum of 237,890 mt.

NMFS finds that the Council's recommendations for OFL, ABC, and TAC amounts are consistent with the biological condition of groundfish stocks as adjusted for other biological and socioeconomic considerations, including maintaining the total TAC within the required OY range of 116,000 to 800,000 mt. NMFS has reviewed the Council's recommended TAC specifications and apportionments and approves these specifications under § 679.20(c)(3)(ii). The final 2003 ABCs, TACs, and OFLs are shown in Table 1.

Apportionment of Reserves

Regulations implementing the FMP require 20 percent of each TAC for pollock, Pacific cod, flatfish, and the “other species” category be set aside in reserves for possible apportionment at a later date (§ 679.20(b)(2)). In 2002, NMFS reapportioned all of the reserves in the final harvest specifications. NMFS proposed reapportionment of all reserves in the proposed 2003 GOA groundfish specifications published in the Federal Register on December 12, 2002 (67 FR 76344). NMFS received no public comments on the proposed reapportionments. For the final 2003 GOA harvest specifications, NMFS has reapportioned all of the reserve for pollock, Pacific cod, flatfish, and “other species”. Specifications of TAC shown in Table 1 reflect apportionment of reserve amounts for these species and species groups.

Apportionments of the Sablefish TAC Amounts to Vessels Using Hook-and-line and Trawl Gear

Under § 679.20(a)(4)(i) and (ii), sablefish TACs for each of the regulatory areas and districts are allocated to hook-and-line and trawl gear. In the Western and Central Regulatory Areas, 80 percent of each TAC is allocated to hook-and-line gear and 20 percent of each TAC is allocated to trawl gear. In the Eastern Regulatory Areas, 95 percent of the TAC is allocated to hook-and-line gear and 5 percent is allocated to trawl gear. The trawl gear allocation in the Western, Central, and Eastern Regulatory Areas may only be used to support incidental catch of sablefish in directed fisheries for other target species. In recognition of the trawl ban in the SEO District of the Eastern Regulatory Area, the Council recommended, and NMFS concurs, that 5 percent of the combined Eastern GOA sablefish TAC be allocated to trawl gear in the WYK District and the remainder to vessels using hook-and-line gear. This recommendation results in an allocation of 294 mt to trawl gear and 2,026 mt to hook-and-line gear in the WYK District and 3,560 mt to hook-and-line gear in the SEO District. In the SEO District, 100 percent of the sablefish TAC is allocated to vessels using hook-and-line gear, resulting in a 3,560 mt allocation. Table 2 shows the allocations of the 2003 sablefish TACs between hook-and-line gear and trawl gear.

Apportionments of Pollock TAC Among Seasons and Regulatory Areas, and Allocations for Processing by Inshore and Offshore Components

In the GOA, pollock is apportioned by season and area, and is further allocated for processing by inshore and offshore components. Under regulations at § 679.20(a)(5)(ii)(B), the annual pollock TAC specified for the Western and Central Regulatory Areas of the GOA is apportioned into four equal seasonal apportionments of 25 percent. As established by § 679.23(d)(2)(i) through (iv), the A, B, C, and D season apportionments are available from January 20 through February 25, from March 10 through May 31, from August 25 through September 15, and from October 1 through November 1, respectively.

Pollock TACs in the Western and Central Regulatory Areas of the GOA in the A and B seasons are apportioned among Statistical Areas 610, 620, and 630 in proportion to the distribution of pollock biomass, as determined by a composite of NMFS winter surveys, and in the C and D seasons in proportion to the distribution of pollock biomass, as determined by the four most recent NMFS summer surveys. The Plan Team recommended an adjustment to the distribution of pollock in the Central Regulatory Area during the A season. The Plan Team recommended that during the A season, the winter and summer distribution of pollock be averaged in the Central Regulatory Area to better reflect the distribution of pollock and the performance of the fishery in the area during the A season. The SSC, AP, and Council concurred with the Plan Team's recommendation. Within any fishing year, the underage or overage of a seasonal apportionment may be added to or subtracted from subsequent seasonal apportionments in a manner to be determined by the Administrator, Alaska Region, NMFS, (Regional Administrator), provided that the sum of the revised seasonal apportionment does not exceed 30 percent of the annual TAC apportionment for the Central and Western Regulatory Areas in the GOA (§ 679.20(a)(5)(ii)(B)). For 2003, 30 percent of the annual TAC for the Central and Western Regulatory Areas is 14,044 mt. The WYK and SEO District pollock TACs of 1,078 mt and 6,460 mt, respectively are not apportioned seasonally.

Regulations at § 679.20(a)(6)(ii) require that the entire amount of the pollock TAC in all regulatory areas and all seasonal allowances thereof be allocated to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under regulations at § 679.20(e) and (f). At this time, these incidental catch amounts are unknown and will be determined during the fishing year.

The seasonal biomass distribution of pollock in the Western and Central GOA, area apportionments, and seasonal apportionments for the A, B, C, and D seasons are summarized in Table 3, except that allocations of pollock for processing by the inshore and offshore components are not shown.

Seasonal Apportionments of Pacific Cod TAC and Allocations for Processing of Pacific Cod TAC Between Inshore and Offshore Components

Pacific cod fishing is divided into two seasons in the Western and Central Regulatory Areas of the GOA. For hook-and-line, pot and jig gear the A season begins on January 1 and ends on June 10, and the B season begins on September 1 and ends on December 31. For trawl gear, the A season begins on January 20 and ends on June 10, and the B season begins on September 1 and ends on November 1 (§ 679.23(d)(3)). Sixty percent of the annual TAC will be available as a directed fishing allowance during the A season and, after subtraction of incidental catch, the remaining 40 percent of the annual TAC will be available for catch during the B season, and will be allocated between the inshore and offshore processing components as provided in 50 CFR § 679.20(a)(6)(iii). Between the A and B seasons, directed fishing for Pacific cod is closed and fishermen participating in other directed fisheries may retain Pacific cod up to the maximum retainable amounts allowed under regulations at § 679.20(e) and (f). For purposes of clarification, NMFS points out that the A and B season Pacific cod fishery dates differ from those of the A, B, C, and D season dates for the pollock fisheries. In accordance with § 679.20(a)(11)(ii), any overage or underage of Pacific cod harvest from the A season shall be subtracted from or added to the subsequent B season.

Regulations at § 679.20(a)(6)(iii) require that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and component allocations of the Pacific cod TAC for 2003 are shown in Table 4.

“Other Species” TAC

The FMP specifies that amounts for the “other species” category are calculated as 5 percent of the combined TAC amounts for target species. The GOA-wide “other species” TAC is calculated as 11,260 mt, which is 5 percent of the sum of combined TAC amounts for the target species.

Pacific Halibut PSC Mortality Limits

Under § 679.21(d), annual Pacific halibut PSC limits are established and apportioned to trawl and hook-and-line gear and may be established for pot gear. In December 2002, the Council recommended that NMFS maintain the 2002 halibut PSC limits of 2,000 mt for the trawl fisheries and 300 mt for the hook-and-line fisheries, with 10 mt of the hook-and-line limit apportioned to the demersal shelf rockfish (DSR) fishery in the SEO District and the remainder to the remaining hook-and-line fisheries. The DSR fishery is defined at § 679.21(d)(4)(iii)(A) and historically has been apportioned this amount in recognition of its small scale harvests. Although observer data are not available to verify actual bycatch amounts, given most vessels are less than 60 ft (18.3 m) length overall (LOA) and are exempt from observer coverage, halibut bycatch in the DSR fishery is assumed to be low because of the short soak times for the gear and the short duration of the DSR fishery. Also, the DSR fishery occurs in the winter when less of an overlap exists in the distribution of DSR and halibut.

Regulations at § 679.21(d)(4) authorize exemption of specified nontrawl fisheries from the halibut PSC limit. The Council recommended that pot gear, jig gear, and the hook-and-line sablefish fishery be exempted from the nontrawl halibut limit for 2003. The Council recommended, and NMFS concurs with, these exemptions because of the low halibut bycatch mortality experienced in the pot gear fisheries (4 mt in 2001 and 2 mt in 2002) and because of the 1995 implementation of the sablefish and halibut Individual Fishing Quota (IFQ) program. The sablefish IFQ program requires legal-size halibut to be retained by vessels using hook-and-line gear if a halibut IFQ permit holder is aboard and is holding unused halibut IFQ. Halibut mortality for the jig gear fleet cannot be estimated because these vessels do not carry observers. However, halibut mortality is assumed to be very low given the small amount of groundfish harvested by jig gear (336 mt in 2001 and 277 mt in 2002) and the assumed high survival rate of any halibut that are incidentally caught by jig gear and released.

Under § 679.21(d)(5), NMFS seasonally apportions the halibut PSC limits based on recommendations from the Council. The FMP and regulations require that the following information be considered by the Council and NMFS in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The emergency interim rule establishing the final 2002 groundfish and PSC specifications (66 FR 956, January 8, 2002) summarizes Council findings with respect to each of the FMP considerations set forth here. At this time, the Council's and NMFS' findings are unchanged from those set forth in 2002. The opening date for the third seasonal allowance of the trawl halibut PSC limit and the start date for directed fishing for rockfish by trawl gear is June 29, 2003. This date will facilitate inseason management of the rockfish fisheries and reduce the effect of the rockfish fisheries on the annual NMFS sablefish survey which occurs later in July.

NMFS concurs with the Council's recommendations described here and listed in Table 5. Regulations at § 679.21(d)(5)(iii) and (iv) specify that any overages or shortfalls in a seasonal apportionment of a PSC limit will be deducted from or added to the following seasonal apportionment within the 2003 fishing year. The following types of information as presented in, or summarized from, the current SAFE report, or as otherwise available from NMFS, Alaska Department of Fish and Game, the International Pacific Halibut Commission (IPHC) or public testimony were considered when establishing the halibut PSC limits:

(A) Estimated Halibut Bycatch in Prior Years

The best available information on estimated halibut bycatch is data collected by observers during 2002. The calculated halibut bycatch mortality by trawl, hook-and-line, and pot gear through December 7, 2002, is 1,997 mt, 246 mt, and 2 mt, respectively, for a total halibut mortality of 2,245 mt.

Halibut bycatch restrictions seasonally constrained trawl gear fisheries during the 2002 fishing year. Trawling during the second season closed for the shallow-water complex on May 15 (67 FR 35448, May 20, 2002) and for the deep-water fishery complex on May 24 (67 FR 37726, May 30, 2002). Trawling during the third season closed for the shallow-water complex on August 5 (67 FR 51499, August 8, 2002) and for the deep-water fishery complex on August 2 (67 FR 51129, August 7, 2002). Trawling during the fourth season closed for both the shallow-water complex and the deep-water fishery complex on September 1 (67 FR 55730, August 30, 2002 and 67 FR 56320, September 3, 2002). Except for a brief period between November 6 and 10, 2002 (67 FR 67798, November 7, 2002), all trawling in the GOA closed (with the exception of pelagic trawl gear targeting pollock) for the remainder of the year on October 13 (67 FR 64066, October 17, 2002).

The amount of groundfish that vessels using trawl gear might have harvested if halibut catch limitations had not restricted the season in 2002 is unknown.

(B) Expected Changes in Groundfish Stocks

In December 2002, the Council adopted higher 2003 ABCs for flathead sole, arrowtooth, sablefish, other rockfish, northern rockfish, Pacific ocean perch, demersal shelf rockfish, and thornyhead rockfish than those established for 2002. The Council adopted lower 2003 ABCs for pollock, Pacific cod, and shallow water flatfish than those established for 2002. For the remaining targets, the Council recommended that ABC levels remain unchanged from 2002. More information on these changes is included in the final SAFE report (November 2002) and in the Council and SSC December 2002 meeting minutes.

(C) Expected Changes in Groundfish Catch

The total of the 2003 TACs for the GOA is 236,440 mt, a decrease of less than 1 percent from the 2002 TAC total of 237,638 mt. Those fisheries for which the 2003 TACs are lower than in 2002 are pollock (decreased to 54,350 mt from 58,250 mt), Pacific cod (decreased to 40,540 mt from 44,230 mt), and other species (decreased to 11,260 mt from 11,330 mt). Those species for which the 2003 TACs are higher than in 2002 are shallow water flatfish (increased to 21,620 mt from 20,420 mt), flathead sole (increased to 11,150 mt from 9,280 mt), sablefish (increased to 14,890 mt from 12,820 mt), northern rockfish (increased to 5,530 mt from 4,980 mt), Pacific ocean perch (increased to 13,660 mt from 13,190 mt), demersal shelf rockfish (increased to 390 mt from 350 mt), and thornyhead rockfish (increased to 2,000 mt from 1,990 mt).

(D) Current Estimates of Halibut Biomass and Stock Condition

The most recent halibut stock assessment was prepared by the IPHC in December 2002. The halibut resource is considered to be healthy, with total catch near record levels. Using the low range of estimates, the current exploitable halibut biomass for 2003 in Alaska is estimated to be 263,086 mt. This is similar to the estimate of 273,950 mt for 2002.

The exploitable biomass of the Pacific halibut stock apparently peaked at 326,520 mt in 1988. According to the IPHC, the long-term average reproductive biomass for the Pacific halibut resource was estimated at 118,000 mt. Long-term average yield was estimated at 26,980 mt, round weight. The species is fully utilized. Recent average catches (1994-96) were 33,580 mt for the U.S. and 6,410 mt for Canada, for a combined total of 39,990 mt for the entire Pacific halibut resource. This catch was 48 percent higher than long-term potential yield, which reflects the good condition of the Pacific halibut resource. In January 2003, the IPHC recommended commercial catch limits totaling 36,812 mt (round weight equivalents) for Alaska in 2003, the same as in 2002. Through December 31, 2003, commercial hook-and-line harvests of halibut in Alaska total 37,219 mt (round weight equivalents).

At its January 2003 meeting, IPHC staff reported on the assessment of the halibut stock in 2002. There were some significant changes in the assessment as a result of changes in the underlying data being analyzed and the persistence of smaller sizes at age in the central port of the halibut range. These changes created some uncertainty about differences in the biomass of the stock estimated from the current and previous assessments. Analyses were conducted for the 2002 assessment to ensure that the stock is not in danger of being overharvested. However, the IPHC staff intends to resolve these technical issues with the assessment over the next year. In addition, IPHC staff are investigating a new harvest policy that may result in greater stability in the yield from the fishery and insulate the process of setting catch limits from technological changes in the assessment. This harvest policy will also be reviewed by the IPHC. The resolution of technical issues of the assessmentmay indicate a larger estimate of biomass in the central region of the stock distribution, but application of the proposed harvest policy might dictate slightly lower yields. Because these two processes may be somewhat counterbalancing, IPHC staff wish to complete their investigations before recommending any changes to present catch limits or the harvest policy. While the trajectory of the halibut stock biomass is downward, the biomass is still above the long-term average level and is expected to remain above this level for the next several years.

Additional information on the Pacific halibut stock assessment and the proposed harvest policy may be found in the IPHC's 2002 Pacific halibut stock assessment (dated December 2002), available from the IPHC on its website at http://www.iphc.washington.edu/hal.com.

(E) Other Factors

The proposed 2003 specifications (67 FR 76344, December 12, 2002) discuss potential impacts of expected fishing for groundfish on halibut stocks, as well as methods available for, and costs of, reducing halibut bycatch in the groundfish fisheries.

Regulations at § 679.21(d)(3)(ii), authorize the trawl halibut PSC limit to be further apportioned to trawl fishery categories, based on each category's proportional share of the anticipated halibut bycatch mortality during the fishing year and the need to optimize the amount of total groundfish harvest under the halibut PSC limit. The fishery categories for the trawl halibut PSC limits are: a deep-water species complex, comprised of sablefish, rockfish, deep-water flatfish, rex sole and arrowtooth flounder; and a shallow-water species complex, comprised of pollock, Pacific cod, shallow-water flatfish, flathead sole, Atka mackerel, and “other species” § 679.21(d)(3)(iii). The final apportionment for these two fishery complexes is presented in Table 6.

Halibut Discard Mortality Rates

The Council recommended, and NMFS concurs, that the halibut discard mortality rates (DMRs) recommended by the IPHC staff for the 2002 GOA groundfish fisheries be used to monitor halibut bycatch mortality limits established for the 2003 GOA groundfish fisheries. The IPHC recommended use of long-term average DMRs for the 2001-2003 groundfish fisheries. The IPHC recommendation also includes a provision that DMRs could be revised should analysis indicate that a fishery's annual DMR diverges substantially (up or down) from the long-term average. Most of the DMRs were based on an average of mortality rates determined from NMFS observer data collected between 1990 and 1999. DMRs were lacking for some fisheries, so rates from the most recent years were used. For the “other species” fishery, where insufficient mortality data are available, the mortality rates of halibut caught in the trawl, hook-and-line, and pot gear Pacific cod fisheries were recommended as a default rate. The DMRs for 2003 are unchanged from those used in 2002 in the GOA. The DMRs for hook-and-line targeted fisheries range from 8 to 24 percent. The DMRs for trawl targeted fisheries range from 58 to 72 percent. The DMRs for all pot targeted fisheries is 14 percent. The final 2003 DMRs are listed in Table 7. The justification for these DMRs is discussed in Appendix A of the final SAFE report dated November 2002.

Non-exempt American Fisheries Act (AFA) Catcher Vessel Groundfish Harvest and PSC Limitations

Regulations at § 679.64 established groundfish harvesting and processing limitations, also called sideboards, on AFA catcher/processors and catcher vessels in the GOA. These sideboard limits are necessary to protect the interests of fishermen and processors, who have not directly benefitted from the AFA, from fishermen and processors who have received exclusive harvesting and processing privileges under the AFA. Under the AFA regulations, listed AFA catcher/processors (§ 679.4(l)(2)(i)) are prohibited from harvesting any species of fish in the GOA (§ 679.7(k)(1)(ii)) and from processing any pollock harvested in a directed pollock fishery in the GOA and any groundfish harvested in Statistical Area 630 of the GOA (§ 679.7(k)(1)(iv)). The Council recommended, and NMFS concurs, that certain AFA catcher vessels in the GOA be exempt from groundfish sideboard limits. The AFA regulations exempt AFA catcher vessels in the GOA less than 125 ft (38.1 m) LOA whose annual Bering Sea and Aleutian Islands (BSAI) pollock landings totaled less than 5,100 mt and that made 30 or more GOA groundfish landings from 1995 through 1997 (§ 679.64(b)(2)(i)(A)).

For non-exempt AFA catcher vessels in the GOA, sideboard limits are based upon their traditional harvest levels of TAC in groundfish fisheries covered by the GOA FMP. The AFA regulations base the groundfish sideboard limits in the GOA on the retained catch of non-exempt AFA catcher vessels of each sideboard species from 1995 through 1997 divided by the TAC for that species over the same period (§ 679.64(b)(3)(iii)). These amounts are listed in Table 8. All catch of sideboard species made by non-exempt AFA catcher vessels, whether as targeted catch or incidental catch, will be deducted from the sideboard limits in Table 8.

PSC sideboard limits for non-exempt AFA catcher vessels in the GOA are based upon the ratio of aggregate retained groundfish catch by non-exempt AFA catcher vessels in each PSC target category from 1995 through 1997 relative to the retained catch of all vessels in that fishery from 1995 through 1997 (§ 679.64(b)(4)). These amounts are shown in Table 9.

Directed Fishing Closures

In accordance with § 679.20(d)(1)(i), if the Regional Administrator determines that any allocation or apportionment of a target species or “other species” category apportioned to a fishery or, with respect to pollock and Pacific cod, to an inshore or offshore component, will be reached, the Regional Administrator may establish a directed fishing allowance for that species or species group. If the Regional Administrator establishes a directed fishing allowance, and that allowance is or will be reached before the end of the fishing year, NMFS will prohibit directed fishing for that species or species group in the specified GOA Regulatory Area or district (§ 679.20(d)(1)(iii)).

The Regional Administrator has determined that the following TAC amounts for the species and species groups listed in Table 10 are necessary as incidental catch to support other anticipated groundfish fisheries for the 2003 fishing year.

Consequently, in accordance with § 679.20(d)(1)(i), the Regional Administrator establishes the directed fishing allowances for the species or species groups listed in Table 10 as zero.

Therefore, in accordance with § 679.20(d)(1)(iii), NMFS is prohibiting directed fishing for those species, areas, gear types, and processing components listed in Table 10. These closures will remain in effect through 2400 hrs, A.l.t., December 31, 2003.

Regulations at § 679.64(b)(5) provide for management of AFA catcher vessel groundfish harvest limits and PSC limits using directed fishing closures and PSC closures according to procedures set out at §§ 679.20(d)(1)(iv) and 679.21(d)(8) and (e)(3)(v). The Regional Administrator has determined that in addition to the closures listed above, many of the non-exempt AFA catcher vessel sideboard amounts listed in Table 9 are necessary as incidental catch to support other anticipated groundfish fisheries for the 2003 fishing year. In accordance with § 679.20(d)(1)(iv), the Regional Administrator establishes the directed fishing allowances for the species and species groups in the specified areas in Table 11 as zero. Therefore, in accordance with § 679.20(d)(1)(iii), NMFS is prohibiting directed fishing by non-exempt AFA catcher vessels in the GOA for the species and species groups in the specified areas in Table 11. These closures will remain in effect through 2400 hrs, A.l.t., December 31, 2003.

Under authority of the interim 2003 specifications (67 FR 78733, December 26, 2002), pollock fishing opened on January 20, 2003, for amounts specified in that notice. NMFS has since closed Statistical Area 610 to directed fishing for pollock effective 1200 hrs, A.l.t., January 23, 2003 (68 FR 4115, January 28, 2003), and Statistical Area 630 to directed fishing for pollock effective 1200 hrs, A.l.t., January 21, 2003 (68 FR 2921, January 22, 2003), and opened Statistical Area 630 to directed fishing for pollock effective 1200 hrs., A.l.t., February 13, 2003 through 1200 hrs, A.l.t., February 14, 2003 (68 FR 7448, February 14, 2003). The closures for pollock in Statistical Areas 610 and 630 will remain in effect through 1200 hrs, A.l.t., March 10, 2003. NMFS has prohibited directed fishing for Pacific cod by vessels catching Pacific cod for processing by the offshore component effective 1200 hrs, A.l.t., February 1, 2003 (68 FR 5585, February 1, 2003), by vessels catching Pacific cod for processing by the inshore component in the Central Regulatory Area, effective 1200 hrs, A.l.t., February 9, 2003 (68 FR 7323, February 13, 2003), and by vessels catching Pacific cod for processing by the inshore component in the Western Regulatory Area, effective 1200 hrs, A.l.t., February 17, 2003 (68 FR 8154, February 20, 2003). The closures for Pacific cod in the Western and Central Regulatory Areas will remain in effect through 1200 hrs, A.l.t., September 1, 2003.

These closures supersede the closures announced in the interim 2003 harvest specifications (67 FR 78733, December 26, 2002). While these closures are in effect, the maximum retainable amounts at § 679.20(e) and (f) apply at any time during a fishing trip. These closures to directed fishing are in addition to closures and prohibitions found in regulations at § 679. NMFS may implement other closures during the 2003 fishing year as necessary for effective conservation and management. Response to Comments

NMFS received one letter of comment in response to the proposed 2003 harvest specifications (67 FR 76344, December 12, 2002).

Comment 1. A request for an extension of time in which to comment on the document.

Response. Regulations at 50 CFR 679.20(c)(1)(i)(B) provide for a 30-day comment period on the proposed specifications. NMFS has determined that an extension of the 30-day comment period on the proposed harvest specifications would pose unacceptable management implications for the 2003 groundfish fisheries. Without proposed and interim specifications in effect on January 1, the groundfish fisheries would not be able to open on that date, which would result in unnecessary closures and disruption within the fishing industry. Therefore, NMFS declines to extend the comment period on the proposed specifications.

Small Entity Compliance Guide

The following information is a plain language guide to assist small entities in complying with this final rule as required by the Small Business Regulatory Enforcement Fairness Act of 1996. This rule's primary management measures are to announce final 2003 harvest specifications and prohibited species bycatch allowances for the groundfish fishery of the GOA. This action is necessary to establish harvest limits and associated management measures for groundfish during the 2003 fishing year and to accomplish the goals and objectives of the Fishery Management Plan for the Groundfish of the GOA. This action affects all fishermen who participate in the GOA fishery. NMFS will announce closures of directed fishing in the Federal Register and in information bulletins released by the Alaska Region. Affected fishermen should keep themselves informed of such closures.

Classification

This action is authorized under 50 CFR 679.20 and is exempt from review under Executive Order 12866.

NMFS prepared an Initial Regulatory Flexibility Analysis (IRFA) that describes the impact the 2003 harvest specifications may have on small entities, in accordance with the provisions of the Regulatory Flexibility Act of 1980, as amended by the Small Business Regulatory Enforcement Fairness Act of 1996 (5 U.S.C. 603(b)). Notice of the availability of the IRFA, and a summary, were published in the classification section of the proposed specifications for the groundfish fisheries in the GOA in the Federal Register on December 12, 2002 (67 FR 76344). The comment period on the proposed GOA harvest specifications and IRFA ended on January 13, 2003. NMFS did not receive any comments on the IRFA. NMFS has prepared a FRFA for this action and a copy is available from the Council (see ADDRESSES).

The small entities affected by this action are those that harvest fish under the terms of the specifications in the GOA. The FRFA identified 1,264 small catcher vessels and 16 small catcher/processors.

No projected additional reporting, recordkeeping or other compliance requirements were identified in connection with the final notice of specifications.

Four alternatives were evaluated, in addition to the preferred alternative used for the specifications. Alternatives were defined by the use of different harvest rates (F values). Impacts of the alternatives were estimated on the basis of their associated overall fleet gross revenue levels. Three alternatives (set F equal to 50 percent of max FABC, set F equal to the most recent 5-year average actual F, and set F equal to zero) all appeared to have greater adverse impacts on small entities than the preferred alternative. One alternative (set F equal to max FABC) had estimated overall gross revenues that were about 4 percent greater than those under the preferred alternative in the GOA. However, this alternative one was not chosen because it was based on 2002 TACs, which do not take into consideration biological survey information collected and analyzed in 2002 and evaluated by the Council and its SSC and AP committees at the end of 2002. The preferred alternative was chosen, rather than alternative one, because the TACs take into account the best and most recent information available regarding the status of the groundfish stocks, public testimony, and socio-economic concerns.

In some cases, the interim specifications currently in effect are not sufficient to allow directed fisheries to continue, resulting in unnecessary closures and disruption within the fishing industry. This action establishes the harvest specifications for the 2003 fisheries in the GOA. Hence, the action must be effective immediately to provide consistent, uninterrupted management and conservation of fishery resources and to allow the fishing industry to plan its fishing operations. Accordingly, the Assistant Administrator for Fisheries, NOAA, finds there is good cause under 5 U.S.C. 553(d)(3) to waive the 30-day delay in the effective date.

Authority: 16 U.S.C. 773 et seq. 16 U.S.C. 1801 et seq., and 3631 et seq.

Dated: February 24, 2003.
Rebecca Lent,
Deputy Assistant Administrator for Regulatory Programs, National Marine Fisheries Service.

[FR Doc. 03-4814 Filed 2-25-03; 3:57 pm]

BILLING CODE 3510-22-S